DEPARTMENT OF THE INTERIOR

National Park Service

[NPS-WASO-NAGPRA-NPS0033016; PPWOCRADN0-PCU00RP14.R50000]

Notice of Inventory Completion: U.S. Department of the Interior, U.S. Fish and Wildlife Service, South Atlantic-Gulf & Mississippi Basin Unified Region, Yazoo National Wildlife Refuge, Hollandale, MS

AGENCY: National Park Service, Interior.

ACTION: Notice.

SUMMARY: The U.S. Fish and Wildlife Service, South Atlantic-Gulf & Mississippi Basin Unified Region (FWS Southeast Region), has completed an inventory of human remains in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains and associated funerary objects should submit a written request to the FWS Southeast Region. If no additional requestors come forward, transfer of control of the human remains to the Indian Tribes or Native Hawaiian organizations stated in this notice may proceed.

DATES: Lineal descendants or representatives of any Indian Tribe or Native Hawaiian organization not identified in this notice that wish to request transfer of control of these human remains should submit a written request with information in support of the request to the FWS Southeast Region at the address in this notice by December 23, 2021.

FOR FURTHER INFORMATION CONTACT: Richard S. Kanaski, Regional Historic Preservation Officer, U.S. Fish and Wildlife Service Southeast Region, 694 Beech Hill Lane, Hardeeville, SC 29927, telephone (912) 257-5434, email, richard_kanaski@fws.gov.

SUPPLEMENTARY INFORMATION: Notice is here given in accordance with the Native American Graves Protection and Repatriation Act (NAGPRA), 25 U.S.C. 3003, of the completion of an inventory of human remains under the control of the U.S. Department of the Interior, U.S. Fish and Wildlife Service, Southeast Region, Hardeeville, SC. The human remains were removed from Washington County, MS.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the FWS Southeast Region professional staff in consultation with representatives of the Alabama-Coushatta Tribe of Texas [previously listed as Alabama-Coushatta Tribes of Texas]; Alabama-Quassarte Tribal Town; Coushatta Tribe of Louisiana; Eastern Band of Cherokee Indians; Miami Tribe of Oklahoma; Mississippi Band of Choctaw Indians; Quapaw Nation [previously listed as The Quapaw Tribe of Indians]; The Chickasaw Nation; The Choctaw Nation of Oklahoma; The Muscogee (Creek) Nation; and The Osage Nation [previously listed as Osage Tribe] (hereafter referred to as “The Tribes”).

History and Description of the Remains

In 1978, human remains representing, at minimum, one individual were removed from the Steele Bayou Site (22WS582) in Washington County, MS, during a phase I survey of the Yazoo National Wildlife Refuge. David M. Heisler, a former employee of the University of Southern Mississippi, conducted the survey under contract with the FWS Southeast Region. The collections from this survey are in physical custody of the University of Southern Mississippi. After a search of the collections in May of 2021, representatives from the University of Southern Mississippi reported that the human remains—one femur—are currently missing. No known individual was identified. No associated funerary objects are present.

The U.S. Fish and Wildlife Service has determined that this individual is Native American through the circumstance of acquisition, including material culture from the site representative of Late and Middle Woodland periods. These circumstances show that these human remains are affiliated with indigenous people in these areas of Mississippi. Present day Indian Tribes affiliated with these cultures include The Tribes.

Determinations Made by the U.S. Department of the Interior, U.S. Fish and Wildlife Service, South Atlantic-Gulf & Mississippi Basin Unified Region

Officials of the U.S. Department of the Interior, U.S. Fish and Wildlife Service, South Atlantic-Gulf & Mississippi Basin Unified Region have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Richard Kanaski, Regional Historic Preservation Officer, U.S. Fish and Wildlife Services, Southeast Region, 694 Beech Hill Lane, Hardeeville, SC 29927, telephone (912) 257-5434, email, richard_kanaski@fws.gov, by December 23, 2021. After that date, if no additional requestors have come forward, transfer of control of the human remains to The Tribes may proceed.

The U.S. Department of the Interior, U.S. Fish and Wildlife Service, South Atlantic-Gulf & Mississippi Basin Unified Region is responsible for notifying The Tribes that this notice has been published.

Dated: November 17, 2021.
Melanie O'Brien,
Manager, National NAGPRA Program.

[FR Doc. 2021-25524 Filed 11-22-21; 8:45 am]

BILLING CODE 4312-52-P